DEPARTMENT OF THE INTERIOR

Bureau of Land Management

[LLCAC09000 L58740000.EU0000.LXSS008B0000; CACA 50168 06]

Notice of Realty Action: Modified Competitive Bid Sale of Public Lands in Santa Cruz County, CA

AGENCY: Bureau of Land Management, Interior.

ACTION: Notice of realty action.

SUMMARY: The Bureau of Land Management (BLM) Hollister Field Office proposes to sell a parcel of public land consisting of approximately 12.55 acres in Santa Cruz County, California, for not less than the appraised fair market value of $53,000. The sale will be conducted as a modified competitive bid auction, whereby only the adjoining landowners would have the opportunity to submit written sealed bids to purchase the public land.

DATES: Written comments regarding this proposed sale must be received by the BLM on or before March 21, 2011. The adjoining landowners have until 3 p.m. Pacific Standard Time April 4, 2011 to submit sealed bids to the BLM Hollister Field Office at the address listed below. Sealed bids will be opened on April 5, 2011, which will be the sale date.

ADDRESSES: Written comments concerning the proposed sale should be sent to the Field Manager, BLM, Hollister Field Office, 20 Hamilton Court, Hollister, California 95023. Sealed bids must also be submitted to this address.

FOR FURTHER INFORMATION CONTACT: Christine Sloand, Realty Specialist, BLM, Hollister Field Office, 20 Hamilton Court, Hollister, California 95023, or phone (831) 630-5022.

SUPPLEMENTARY INFORMATION: The following public land is proposed for sale in accordance with Sections 203 and 209 of the Federal Land Policy and Management Act (FLPMA) of 1976, as amended (43 U.S.C. 1713 and 1719):

Mount Diablo Meridian

T. 10S., R. 2E.,

Sec. 20, lots 1, 2, and 9.

The area described contains 12.55 acres, more or less, in Santa Cruz County.

The public land was originally identified as suitable for disposal in the 1984 BLM Hollister Resource Management Plan (RMP) and remains available for sale under the 2007 Hollister RMP revision, and is not needed for any other Federal purpose. The public land proposed for sale lacks legal access and is isolated from other public lands. The BLM's purpose in selling the land is to dispose of land that is difficult and uneconomic to manage as part of the public lands. The BLM proposes to limit bidding to the adjoining landowners because the land lacks legal access and has no utility except to be used as part of an adjoining parcel. The BLM's objective in limiting bidding to the adjoining landowners is to encourage the assemblage of the public land with an adjoining parcel of private land, which is the highest and best use of the public land according to an appraisal approved by the Department of the Interior Office of Valuation Services. Under the regulations 43 CFR 2711.3-2, the BLM may limit bidding to certain persons when the authorized officer determines it is necessary to recognize equitable considerations or public policies. In this case, the BLM believes that it is good public policy to promote the assemblage of the public land with adjoining private land because that is the highest and best use of the public land and it is equitable to provide each adjoining landowner an opportunity to purchase the public land. There are three landowners adjoining the public land; Mr. and Mrs. Burch, Mr. and Mrs. Bradford and Mr. and Mrs. Reid. The BLM has completed a mineral potential report which concluded there are no known mineral values in the land proposed for sale. The proposed sale would include the conveyance of both the surface and mineral interests of the United States.

On February 3, 2011, the above described land will be segregated from appropriation under the public land laws, including the mining laws, except for the sale provisions of the FLPMA. The BLM will no longer accept land use applications affecting the identified public lands, except applications for the amendment of previously filed right-of-way applications or existing authorizations to increase the term of the grants in accordance with 43 CFR 2802.15 and 2886.15. The temporary segregation will terminate upon issuance of a patent, publication in the Federal Register of a termination of the segregation, or on February 4, 2013, unless extended by the BLM State Director in accordance with 43 CFR 2711.1-2(d) prior to the termination date. The land would not be sold until at least April 4, 2011. Any patent issued would contain the following terms, conditions, and reservations:

1. A reservation of a right-of-way to the United States for ditches and canals constructed by authority of the United States under the Act of August 30, 1890 (43 U.S.C. 945);

2. A condition that the conveyance be subject to all valid existing rights of record;

3. An appropriate indemnification clause protecting the United States from claims arising out of the patentee's use, occupancy, or operations on the patented lands;

4. Additional terms and conditions that the authorized officer deems appropriate.

The BLM will send the adjoining landowners of record an Invitation For Bid (IFB). Adjoining landowners must follow the instructions in the IFB to participate in the bidding process. Sealed bids must be for not less than the Federally approved fair market value of $53,000. Each sealed bid must include a certified check, money order, bank draft, or cashier's check made payable in U.S. dollars to the Bureau of Land Management, for 10 percent of the amount of the bid. A bid to purchase the land will constitute an application for conveyance of the Federal mineral interest, and in conjunction with the final payment, the purchaser will be required to pay a $50 nonrefundable filing fee for the conveyance of the mineral interests. If more than one sealed bid is submitted for the same high bid amount, the high bidders will be notified and allowed to submit additional sealed bids. The highest qualifying bid will be declared the high bid and the high bidder will receive written notice. The BLM will return checks submitted by unsuccessful bidders by U.S. mail or in person on the day of the sale. The successful bidder must submit the remainder of the full bid price prior to the expiration of 180 days from the date of the sale, in the form of a certified check, money order, bank draft, or cashier's check made payable in U.S. dollars to the Bureau of Land Management. Personal checks will not be accepted. Failure to submit the full bid price prior to, but not including the 180th day following the day of the sale, will disqualify the apparent high bidder and cause the entire bid deposit to be forfeited to the BLM. No exceptions will be made. The BLM may accept or reject any or all offers, or withdraw the land from sale, if, in the opinion of the BLM authorized officer, consummation of the sale would not be fully consistent with the FLPMA or other applicable law or is determined to not be in the public interest.

Under Federal law, the public lands may only be conveyed to U.S. citizens 18 years of age or older; a corporation subject to the laws of any State or of the United States; a State, State instrumentality, or political subdivision authorized to hold property, or an entity legally capable of conveying and holding lands under the laws of the State of California. If not sold, the land described in this Notice may be identified for sale later without further legal notice and may be offered for sale by sealed bid, Internet auction, or oral auction. In order to determine the value, through appraisal, of the land proposed to be sold, certain extraordinary assumptions may have been made of the attributes and limitations of the lands and potential effects of local regulations and policies on potential future land uses. Through publication of this Notice, the BLM gives notice that these assumptions may not be endorsed or approved by units of local government. It is the buyer's responsibility to be aware of all applicable local government policies, laws, and regulations that would affect the subject lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Detailed information concerning the proposed land sale including the sale procedures and conditions, appraisal, planning and environmental documents, and a mineral report are available for review at the location identified in ADDRESSES above.

Public Comments regarding the proposed sale may be submitted in writing to the attention of the BLM Hollister Field Manager (see ADDRESSES above) on or before March 21, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Karla Norris,
Associate Deputy State Director, Natural Resources.

[FR Doc. 2011-2362 Filed 2-2-11; 8:45 am]

BILLING CODE 4310-40-P